DEPARTMENT OF THE INTERIOR

National Park Service

Notice of Availability of a Record of Decision (ROD) on the Final Environmental Impact Statement/General Management Plan (FEIS/GMP) for Big South Fork National River and Recreation Area, Kentucky and Tennessee (National Area)

AGENCY: National Park Service, Interior.

ACTION: Notice.

SUMMARY: Pursuant to section 102(2)(C) of the National Environmental Policy Act (NEPA) of 1969, 83 Stat. 852, 853, codified as amended at 42 U.S.C. 4332 (2)(C), as well as National Park Service (NPS) policy in Director's Order 2 (Park Planning) and Director's Order 12 (Conservation Planning, Environmental Impact Analysis, and Decision-making), the NPS announces the availability of the ROD for the FEIS/GMP for the National Area. On May 26, 2005, the Southeast Regional Director approved the ROD for the project. As soon as practicable, the NPS will begin to implement the GMP, described as the Preferred Alternative (Alternative D) in the FEIS issued on February 24, 2005.

Under the preferred alternative, a total of eight management zones will be created for the National Area, each of which will be attended with particularized management prescriptions. Overall, the level of development and types of facilities proposed over the planning horizon of 15 to 20 years will remain essentially the same as currently exists.

The notable exceptions include new sites in the southwest portion of the National Area where NPS has been actively acquiring land in recent years.

Under Alternative D, the NPS will devote considerable effort and resources to improving the National Area's road and trail system. A principal feature of Alternative D is a roads and trails plan that sets forth the official road and trail system for the National Area. Henceforth, public use of roads and trails will only be allowed on the official system; all trails not expressly included as part of the official system will be designated as administratively closed. In addition, public use of a particular road or trail will be limited to the designated use set forth in Alternative D, with certain limited exceptions. Each road and trail in the official system will be constructed and maintained in accordance with a standard that supports the designated use(s) and also is consistent with desired resource conditions in the surrounding area, or zone.

Alternative D increases the trail miles available to hikers, equestrians, and bicyclists from the levels currently maintained by the National Area. The official trail system includes trails specifically dedicated to each of these user groups, plus a larger universe of trails that are “shared use.” Generally speaking, designated horse trails will also be open to hikers and bicyclists, while designated bike trails will be open to both bicyclists and hikers. Specified hiking trails will also be open to bicyclists in order to provide more opportunities for this increasingly popular activity.

In implementing Alternative D, the NPS will continue the use of a trail type known as “multiple-use trail.” In the National Area, this trail type is typically known for allowing motor vehicles, horses, hikers, and bicyclists on a single route maintained to trail rather than road standards. Under Alternative D, persons driving motor vehicles that are licensed and registered may use any multiple-use trails that will accommodate such use. All Terrain Vehicles (ATVs) will generally not be permitted on any multiple-use trail, park road, or any other trail type. However, visitors will be permitted to use ATVs on multiple-use trails while actively hunting, during big game season only. Multiple-use trails will be closed to ATVs at all other times of the year. Big game season is defined for this purpose as the legal season for white-tailed deer and, in jurisdictions where they are regulated as “big game,” wild boar. Alternative D also provides that ATV routes for year-round general recreational use may be designated within “planning areas” identified for consideration of such use. The plan includes two such planning areas in the Darrow Ridge area. These planning areas will provide the opportunity to design an experimental prototype system.

Under Alternative D, the route of the old O&W railroad will provide continued passenger vehicle access to the O&W bridge from the east. The route will be improved to the extent of providing safe passage. The NPS will coordinate with Scott County on the necessary improvements to achieve desired use and resource conditions. The O&W route west of North White Oak Creek has been determined to be abandoned. This portion of the route, extending to trail connections near the western boundary of the National Area, will be a trail designated for foot, horse, and bike use, as recommended by previous studies. The route will be brought to a standard suitable for the intended trail uses.

Basis for Decision

In reaching the decision to select Alternative D, the NPS considered the purposes for which the National Area was established and other laws and policies that apply to lands in the National Area, including the NPS Organic Act, NEPA, NPS Director's Order 12, and the NPS Management Policies 2001. Alternative D has the greatest potential of all four alternatives to preserve the unique resources of the National Area while making available a wide range of recreational opportunities to the visiting public. With eight management zones specifically tailored to the diverse resources and facilities of the National Area, Alternative D provides National Area management and the public with a higher degree of information and guidance concerning objectives, management, use, and development than do the other action alternatives. In so doing, it offers the broadest level of resources protection, interpretation, visitor services, and the optimum opportunity for high quality visitor experiences. Therefore the NPS has opted to select this alternative.

Findings on Impairment

The NPS has determined that implementation of Alternative D will not constitute an impairment to the National Area's resources and values. This conclusion is based on a thorough analysis of the environmental impacts described in the EIS, the public comments received, relevant scientific studies, and the professional judgment of the decision-maker guided by the direction in the NPS Management Policies. Overall, the FEIS/GMP results in benefits to National Area resources and values and opportunities for their enjoyment, and it does not result in their impairment.

DATES: The Record of Decision was signed by the Southeast Regional Director on May 26, 2005. As soon as practicable, the NPS will begin to implement the Preferred Alternative, listed as Alternative D in the Final General Management Plan.

ADDRESSES: Copies of the ROD are available from the Superintendent, Big South Fork NRRA, 4564 Leatherwood Ford Road, Oneida, TN 37841, or by calling (423) 569-9778. An electronic copy of the Record of Decision is available on the Internet at http://www.nps.gov/biso.

FOR FURTHER INFORMATION CONTACT: Reed Detring, Superintendent, Big South Fork NRRA, 4564 Leatherwood Ford Road, Oneida, TN 37841. Telephone: (423) 569-9778.

SUPPLEMENTARY INFORMATION: Copies of the ROD may be obtained from the contact listed above.

The responsible official for this FEIS/GMP is Patricia A. Hooks, Regional Director, Southeast Region, National Park Service, 100 Alabama Street SW., 1924 Building, Atlanta, Georgia 30303.

Dated: July 1, 2005.
Patricia A. Hooks,
Regional Director, Southeast Region.

[FR Doc. 05-16079 Filed 8-12-05; 8:45 am]

BILLING CODE 4310-70-P